DEPARTMENT OF COMMERCE

National Oceanic and Atmospheric Administration

[I.D. 042501H]

Endangered and Threatened Species; Take of Anadromous Fish

AGENCY: National Marine Fisheries Service (NMFS), National Oceanic and Atmospheric Administration (NOAA), Commerce.

ACTION: Notice of availability and request for comment.

SUMMARY: Notice is hereby given that the Oregon Department of Fish and Wildlife (ODFW) has submitted two Fisheries Management and Evaluation Plans (FMEP) and The Idaho Department of Fish and Game (IDFG) has submitted a FMEP pursuant to the protective regulations promulgated for Snake River (SR) steelhead under the Endangered Species Act (ESA). The FMEPs specify the future management of inland recreational fisheries potentially affecting the SR steelhead. This document serves to notify the public of the availability of the FMEPs for review and comment before a final approval or disapproval is made by NMFS.

DATES: Written comments on the draft FMEPs must be received at the appropriate address or fax number (see ADDRESSES) no later than 5 p.m. Pacific standard time on June 4, 2001.

ADDRESSES: Written comments and requests for copies of the draft FMEPs should be addressed to Richard Turner, Sustainable Fisheries Division, Hatchery and Inland Fisheries Branch, 525 N.E. Oregon Street, Suite 510, Portland, OR 97232 or faxed to 503-872-2737. The documents are also available on the Internet at http://www.nwr.noaa.gov/. Comments will not be accepted if submitted via e-mail or the Internet.

FOR FURTHER INFORMATION CONTACT: Debbie Martin, Boise, ID at phone number: 208-321-2959, or e-mail: debbie.martin@noaa.gov , or Richard Turner, Portland, OR at phone number 503-736-4737 or e-mail: rich.turner@noaa.gov regarding FMEPs.

SUPPLEMENTARY INFORMATION: This notice is relevant to the Snake River Basin Steelhead (Oncorhynchus mykiss) Evolutionarily Significant Unit (ESU).

Background

ODFW has submitted to NMFS an FMEP (Snake, Grande Ronde, and Imnaha Rivers Warmwater and Sturgeon Recreation Fisheries) for warmwater and sturgeon recreational fisheries potentially affecting listed adult and juvenile SR steelhead. This includes fisheries occurring in the Snake, Grande Ronde, and Imnaha River Basins. The objective of the FMEP is to provide a catch and release recreational fishing opportunity and harvest on introduced warmwater species in the Oregon portion of the Snake River, the Imnaha River, and the Grande Ronde River and tributaries in a manner that does not jeopardize the survival and recovery of the SR steelhead ESU. The FMEP focuses on the incidental mortality to SR steelhead from these fisheries. Impacts can result from the fisheries themselves and the potential impacts from the resident fish stocking program. Impact levels to listed steelhead populations in the ESU due to catch and release are specified in the FMEP. Population viability analyses and risk assessments in the FMEP indicate the extinction risk for listed steelhead under the proposed fishery impact levels to be low. A variety of monitoring and evaluation tasks are specified in the FMEP to assess the abundance of steelhead, determine fishery effort and catch of steelhead, and angler compliance. A comprehensive review of the FMEP to evaluate whether the fisheries and listed steelhead populations are performing as expected will be done through regular creel surveys and angler contacts.

ODFW has submitted to NMFS an FMEP (Summer Steelhead and Trout Sport Fisheries in Grande Ronde Basin, Imnaha Basin, and Snake River) for recreational steelhead fisheries in the Grande Ronde, Imnaha, and Snake River Basins. The objective of this FMEP is to harvest known, hatchery-origin steelhead in a manner that does not jeopardize the survival and recovery of the SR steelhead ESU. Only adult hatchery-origin steelhead that are adipose fin clipped may be retained. Impact levels to listed steelhead populations in the ESU due to catch and release are specified in the FMEP. Population viability analyses and risk assessments in the FMEP indicate the extinction risk for listed steelhead under the proposed fishery impact levels to be less than 0.1 percent. A variety of monitoring and evaluation tasks are specified in the FMEP to assess the abundance of steelhead, determine fishery effort and catch of steelhead, and angler compliance. A comprehensive review of the FMEP to evaluate whether the fisheries and listed steelhead populations are performing as expected will be done annually.

ODFW has provided NMFS a draft of the Conservation Assessment of Steelhead Populations in Oregon (Assessment) as part of the FMEP submittal. The Assessment provides the population viability analysis and risk assessment developed for ODFW’s FMEPs. This Assessment is also available for review and comment.

IDFG has submitted to NMFS an FMEP (The State of Idaho Resident Fish Species Fishing Program) for inland, resident, recreational fisheries potentially affecting listed adult and juvenile SR steelhead. This includes fisheries occurring throughout Idaho including the Clearwater and Salmon River Basins. The objective of the FMEP is to provide sufficient sport fishing opportunities in a manner that does not jeopardize the survival and recovery of the ESU. The FMEP focuses mainly on impacts to juvenile steelhead. Impacts can result from the fisheries themselves and the potential impacts from the resident fish stocking program. Impact levels to listed steelhead populations in the ESU due to catch and release are specified in the FMEP. Population viability analyses and risk assessments in the FMEP indicate the extinction risk for listed steelhead under the proposed fishery impact levels to be low. A variety of monitoring and evaluation tasks are specified in the FMEP to assess the abundance of steelhead, determine fishery effort and catch of steelhead, and angler compliance. A comprehensive review of the FMEP to evaluate whether the fisheries and listed steelhead populations are performing as expected will be done through regular creel surveys and angler contacts.

As specified in the July 10, 2000 ESA 4(d) rule for salmon and steelhead (65 FR 42422), NMFS may approve an FMEP if it meets criteria set forth in § 223.203 (b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead ESA 4(d) rule (65 FR 42422, July 10, 2000).

Dated: May 1, 2001.
Karen Salvini,
Acting Chief, Endangered Species Division, Office of Protected Resources, National Marine Fisheries Service.

[FR Doc. 01-11321 Filed 5-3-01; 8:45 am]

BILLING CODE 3510-22-S